DEPARTMENT OF HEALTH AND HUMAN SERVICES

Centers for Medicare & Medicaid Services

[Document Identifier: CMS-10439 and CMS-10830]

Agency Information Collection Activities: Submission for OMB Review; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected, and the use of automated collection techniques or other forms of information technology to minimize the information collection burden.

DATES: Comments on the collection(s) of information must be received by the OMB desk officer by February 27, 2023.

ADDRESSES: Written comments and recommendations for the proposed information collection should be sent within 30 days of publication of this notice to www.reginfo.gov/public/do/PRAMain. Find this particular information collection by selecting “Currently under 30-day Review—Open for Public Comments” or by using the search function.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William Parham at (410) 786-4669.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Extension without change of a currently approved collection; Title of Information Collection: Data Collection to Support Eligibility Determinations for Small Businesses in the Small Business Health Options Program; Use: On March 23, 2010, the President signed into law H.R. 3590, the Patient Protection and Affordable Care Act, Public Law 111-148, as amended by the Health Care and Education Reconciliation Act of 2010, Public Law 111-152. The Patient Protection and Affordable Care Act (PPACA) expands access to health insurance coverage through improvements to the Medicaid and Children's Health Insurance (CHIP) programs, the establishment of Affordable Insurance Exchanges (Exchanges), and the coordination between Medicaid, CHIP, and Exchanges. Small business employers may participate in and provide health coverage through the Small Business Health Options Program (SHOP), so long as the small business employer obtains a positive eligibility determination from SHOP. Employers will work with SHOP-registered agents/brokers or Issuers offering Qualified Health Plans (QHPs) and Qualified Dental Plans (SADPs), to enroll in SHOP coverage and to select coverage options to offer their employees. SHOP Exchanges became operational on October 1, 2013.

HHS has developed a single, streamlined form that employers use to obtain a SHOP eligibility determination, which is included as an appendix to this Information Collection Request. 45 CFR 155.731 provides more detail about this “single employer application,” which is used to determine employer eligibility. Since publication of the last package, no updates have been made in regulation concerning what information should be collected on the single employer application to determine employer eligibility under 45 CFR 155.731. When an employer completes the SHOP Eligibility Determination Form, the form and its results are retained by SHOP for future use, if needed (e.g., reconciliation with issuer records, SHOP employer appeals, etc.). Form Number: CMS-10439 (OMB control number 0938-1193); Frequency: Annually; Affected Public: Private Sector (business or other for-profits, not-for-profit institutions); Number of Respondents: 2,100; Number of Responses: 2,100; Total Annual Hours: 336. (For questions regarding this collection contact Elliot Klein at 410-786-0415).

2. Type of Information Collection Request: New collection (Request for a new OMB control number); Title of Information Collection: Data Collection to Support CMS Burden Reduction and Health Informatics Efforts; Use: CMS seeks to establish a generic clearance that will be used to permit quick turnaround data collection projects that support CMS efforts to infuse customer perspectives, apply innovative solutions, advance standards and information technology (IT) interoperability, advance health equity, and respond to emerging priorities. CMS will utilize a range of methodologies through this generic clearance including surveys, focus groups, stakeholder/key informant interviews, cognitive interviews, site visits, and usability testing. Data collected under this generic clearance will support CMS and OBRHI efforts to reduce the burden of CMS regulations, sub-regulations, and policies as well as increasing the use of digital health tools to improve the customer experience. Obtaining feedback from CMS stakeholders is a core component of OBRHI's work to assist CMS in improving service delivery. Form number: CMS-10830 (OMB control number: 0938-New); Frequency: Occasionally; Affected Public: Private Sector (Businesses or other for-profits and Not-for-profit institutions); Number of Respondents: 15,648; Number of Responses: 15,648; Total Burden Hours: 5,034. (For questions regarding this collection contact Réna McClain at 410-786-3975).

Dated: January 24, 2023.
William N. Parham, III,
Director, Paperwork Reduction Staff, Office of Strategic Operations and Regulatory Affairs.

[FR Doc. 2023-01713 Filed 1-26-23; 8:45 am]

BILLING CODE 4120-01-P